DEPARTMENT OF JUSTICE

Antitrust Division

Notice Pursuant to The National Cooperative Research and Production Act of 1993—Naval Surface Technology & Innovation Consortium

Notice is hereby given that, on December 02, 2021, pursuant to Section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, AI.Reverie, Inc., New York, NY; Art Anderson Associates, Inc., Bremerton, WA; ATI, Inc., Nicholasville, NJ; BlackBar Engineering LLC, Tucson, AZ; BlackSky Geospatial Solutions, Inc., Herndon, VA; BluePath Labs LLC, Washington, DC; BMORE VIRTUAL, LLC, Baltimore, MD; Bowhead Turnkey Manufacturing LLC, Plano, TX; C3.AI, Inc., Redwood City, CA; Chip Design System Inc., Hockessin, DE; Coda Octopus Colmek, Inc., Murray, UT; Columbus Technologies and Services, Inc., Greenbelt, MD; DataCrunch Lab, LLC, Cary, NC; DKW Consulting LLC, Tallahassee, FL; Eos Energetics, Inc., Penrose, CO; FIDELIUM LLC, Virginia Beach, VA; Gryphon Technologies, Washington, DC; Hanley Industries, Inc., Alton, IL; Intrepid LLC, Huntsville, AL; Invariant Corporation, Huntsville, AL; Iowa State University, Ames, IA; JRC Integrated Systems, Inc, Washington, DC; KG Made, LLC dba KGM Technologies, Peachtree Corners, GA ; Knight Technical Solutions LLC, Huntsville, AL; Marine Electric Systems, Inc., South Hackensack, NJ; Memsel Inc., Haltom City, TX; MicroStrategy, Tysons, VA; Mustang Vacuum Systems, Inc., Sarasota, FL; Next Offset Solutions, Inc., West Lafayette, IN; Onyx Aerospace, Inc., Huntsville, AL; Opal Soft, Inc., Sunnyvale, CA; Perikin Enterprise, LLC, Albuquerque, NM; Physical Sciences Inc., Andover, MD; Production Systems Automation LLC, Duryea, PA; Rescue Rover, LLC dba AlphaBravo, Gaithersburg, MD; SECOTEC, Inc., Huntsville, AL; Sentient Digital, Inc. dba Entrust Government Solutions, New Orleans, LA; SGSD PARTNERS, LLC DBA ELEVATE GOVERNMENT SOLUTIONS, Washington, DC; Solid State Scientific Corporation, Hollis, NH; University of Michigan, Ann Arbor, MI; and VT Milcom Inc. (VTG), Virginia Beach, VA have been added as a party to this venture. Also, Exact Solutions Scientific Consulting LLC, Morristown, NJ has withdrawn as a party to this venture.

No other changes have been made in either the membership or planned activity of the group research project. Membership in this group research project remains open, and NSTIC intends to file additional written notifications disclosing all changes in membership.

On October 8, 2019, NSTIC filed its original notification pursuant to Section 6(a) of the Act. The Department of Justice published a notice in the Federal Register pursuant to Section 6(b) of the Act on November 12, 2019 (84 FR 61071).

The last notification was filed with the Department on May 13, 2021. A notice was published in the Federal Register pursuant to Section 6(b) of the Act on June 10, 2021 (86 FR 30981).

Suzanne Morris,
Chief, Premerger and Division Statistics, Antitrust Division.

[FR Doc. 2022-05185 Filed 3-10-22; 8:45 am]

BILLING CODE P